SMALL BUSINESS ADMINISTRATION

[Disaster Declaration #11844 and #11845]

Kentucky Disaster #KY-00027

AGENCY: U.S. Small Business Administration.

ACTION: Notice.

SUMMARY: This is a Notice of the Presidential declaration of a major disaster for the State of Kentucky (FEMA—1855—DR), dated 08/14/2009.

Incident: Severe storms, straight-line winds, and flooding.

Incident Period: 08/04/2009.

Effective Date: 08/14/2009.

Physical Loan Application Deadline Date: 10/13/2009.

Economic Injury (EIDL) Loan Application Deadline Date: 05/14/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/14/2009, applications for disaster loans may be filed at the address listed above or other locally announced locations.

The following areas have been determined to be adversely affected by the disaster:

Primary Counties (Physical Damage and Economic Injury Loans): Jefferson.

Contiguous Counties (Economic Injury Loans Only):

Kentucky: Bullitt, Hardin, Oldham, Shelby, Spencer.

Indiana: Clark, Floyd, Harrison.

The Interest Rates are:

| Percent
Homeowners With Credit Available Elsewhere | 5.500
Homeowners Without Credit Available Elsewhere | 2.750
Businesses With Credit Available Elsewhere | 6.000
Businesses & Small Agricultural Cooperatives Without Credit Available Elsewhere | 4.000
Other (Including Non-Profit Organizations) With Credit Available Elsewhere | 4.500
Businesses And Non-Profit Organizations Without Credit Available Elsewhere | 4.000

The number assigned to this disaster for physical damage is 11844B and for economic injury is 118450.

(Catalog of Federal Domestic Assistance Numbers 59002 and 59008)

James E. Rivera,
Acting Associate Administrator for Disaster Assistance.

[FR Doc. E9-20260 Filed 8-21-09; 8:45 am]

BILLING CODE 8025-01-P